DEPARTMENT OF TRANSPORTATION

Federal Aviation Administration

14 CFR Part 71

[Airspace Docket No. 97-AWA-2]

RIN 2120-AA66

Proposed Modification of the Tampa Class B Airspace Area; FL

AGENCY: Federal Aviation Administration (FAA), DOT.

ACTION: Proposed rule; withdrawal.

SUMMARY: This action withdraws a notice of proposed rulemaking (NPRM) published in the Federal Register on November 18, 1998. In that action, the FAA proposed to modify the Tampa, FL, Class B airspace area by renaming two existing subareas, configure the boundaries of three subareas, and create an additional subarea. However, the conditions that prompted the development of the proposal did not fully materialize. Therefore, the FAA has determined that withdrawal of the proposed rule is warranted in order to best serve aviation safety and the efficient management of aircraft operations in the Tampa terminal area.

DATES: This withdrawal is made as of February 4, 2003.

FOR FURTHER INFORMATION CONTACT: Paul Gallant, Airspace and Rules Division, ATA-400, Office of Air Traffic Airspace Management, Federal Aviation Administration, 800 Independence Avenue, SW., Washington, DC 20591; telephone: (202) 267-8783.

SUPPLEMENTARY INFORMATION:

Background

The basis for the proposed modification of the Tampa Class B airspace area was a 1991 recommendation by the Defense Base Realignment and Closure Commission that MacDill Air Force Base (AFB) be closed and the 56th Tactical Fighter Wing located there be deactivated. That action prompted the FAA to conduct a staff study of the Tampa terminal area to determine if any modifications to the Tampa Class B airspace area were warranted. The staff study resulted in a recommendation to raise the floor of Class B airspace over Tampa Bay south of MacDill AFB to the boundary of Sarasota-Brandenton Class C airspace area from the current 1,200 feet mean sea level (MSL) to 3,000 feet MSL. The airspace floor in that area was established at 1,200 feet MSL in 1990 as an additional safety measure between civil aircraft operating in the vicinity of Tampa International Airport and the F-16 fighter aircraft based at MacDill AFB.

In 1995, however, the Commission amended its findings and recommended that MacDill AFB remain open and continue to host an active flying mission. The F-16 unit, formerly assigned to the base, was replaced by an air refueling wing comprised of KC-135 heavy jet aircraft.

The decision that MacDill AFB would remain open with a continuing flying mission was acknowledged in the NPRM. The FAA elected to proceed with the proposal to modify the Class B airspace area because it was anticipated that the termination of the fighter mission would lead to fewer operations at MacDill AFB, as well as less high-speed, low-altitude military aircraft operations over Tampa Bay.

It is with this in mind that, on November 18, 1998, the FAA published an NPRM in the Federal Register (63 FR 64016) proposing to amend 14 CFR part 71 to modify the Tampa, Florida Class B airspace area. Interested parties were invited to participate in the rulemaking process by submitting written data, views, or arguments regarding the proposal.

The FAA received a total of nine comments on the proposal. The Aircraft Owners and Pilots Association (AOPA) wrote in support of the proposal stating that the elimination of Class B airspace below 3,000 feet MSL as proposed would result in more efficient use of the airspace by segments of the general aviation community. The United States Air Force (USAF) submitted two comments opposing the proposal. The USAF was concerned that the proposal to raise the floor of Class B airspace area, from 1,200 feet MSL to 3,000 feet MSL, south of MacDill AFB would pose a hazard to flight operations in the area. Another commenter also opposed the proposal stating that the existing 1,200-foot floor is necessary based on the amount of aircraft operations in the area, the number of airports located within a few miles of each other, and weather conditions over Tampa Bay that reduce long-range visibility much of the time. Five other commenters supported the proposal stating that the changes would benefit general aviation.

As a result of the NPRM, however, questions arose regarding the impacts of the change on the efficiency and safety of operations in the Tampa terminal area if the floor of Class B airspace area was raised from the current 1,200 feet MSL to 3,000 feet MSL, as proposed. These concerns were based on the fact that MacDill AFB did not close and that the airspace over Tampa Bay encompasses high density traffic operating to and from six airports in the vicinity.

Airspace Study

In January 2002, the FAA conducted a thorough review of the proposed Tampa, FL, Class B airspace area modifications to better evaluate these concerns. The review included an analysis of traffic flows within the Tampa Approach Control airspace, with special emphasis given to that segment of Class B airspace from MacDill AFB south to the boundary of the Sarasota-Bradenton Class C airspace area. In its review, the FAA considered the following information: MacDill AFB remains open and hosts a variety of aircraft operations including KC-135 heavy jets, aviation elements of the National Oceanic and Atmospheric Administration and the Department of Agriculture, and routine transient aircraft. In addition, fighter aircraft from other locations frequently deploy to, and operate from, MacDill AFB to conduct training in the nearby off-shore and over-land military special use airspace areas. The MacDill AFB aircraft operations count for the year 2001 totaled more than 30,000 operations, contributing to the overall complexity of airspace in the Tampa terminal area.

The Tampa Class B airspace area was configured to provide Class B airspace protection for air carrier aircraft serving the Tampa International Airport (the primary airport) and to enhance the management of air traffic operations in this high-density terminal area. Air traffic control makes extensive use of the Class B airspace segment over Tampa Bay to ensure the safe and efficient management of aircraft operations in the terminal area. Raising the floor of Class B airspace to 3,000 feet MSL, as proposed, would place a significant portion of traffic in the Tampa terminal area outside of Class B airspace during critical phases of flight. For example, arrivals to Runways 36L/36R at Tampa International Airport are descended to 2,600 feet MSL to be at the approach intercept altitude. This altitude is 1,000 feet above the approach intercept altitude of 1,600 feet MSL used for Runway 04 at MacDill AFB. This altitude difference provides the required instrument flight rules separation between Tampa and MacDill arrivals. Aircraft departing Runway 22 at MacDill AFB are initially stopped at 1,600 feet MSL, southbound, in order to provide separation from Tampa arrivals and departures. When multiple aircraft are being vectored in the radar pattern for Runway 04 at MacDill AFB, the pattern often extends to the southwest of MacDill AFB as far as the Skyway Bridge and beyond.

In addition to the Tampa International Airport and MacDill AFB operations described above, the same general airspace is used by other aircraft descending into, or departing from, the Albert Whitted (SPG), St. Petersburg-Clearwater International (PIE), Peter O. Knight (TPF), and Sarasota-Bradenton International (SRQ) Airports. Arrivals to these airports are normally descended to 2,000 feet MSL to intercept the approach. The final approach paths for these airports lie within 10 nautical miles of each other.

The airspace segment from MacDill AFB southward to the Sarasota-Bradenton Class C airspace boundary contains a high volume of aircraft operations and a widely varied mix of instrument flight rules and visual flight rules aircraft operations.

Decision

Based on this latest study, the FAA has concluded that the current configuration of the Tampa Class B airspace area best provides for the safety and efficiency of operations within the Tampa terminal area.

In light of these considerations, the FAA has reexamined the proposed modification of the Tampa Class B airspace area and has decided to withdraw the proposal.

List of Subjects in 14 CFR Part 71

Airspace, Incorporation by reference, Navigation (air).

The Withdrawal

In consideration of the foregoing, the Notice of Proposed Rulemaking, Airspace Docket No. 97-AWA-2, as published in the Federal Register on November 18, 1998 (63 FR 64016), is hereby withdrawn.

Authority: 49 U.S.C. 106(g), 40103, 40113, 40120; E.O. 10854; 24 FR 9565, 3 CFR, 1959-1963 Comp., p. 389.

Issued in Washington, DC, on January 29, 2003.
Reginald C. Matthews,
Manager, Airspace and Rules Division.

[FR Doc. 03-2526 Filed 2-3-03; 8:45 am]

BILLING CODE 4910-13-P